CONSUMER PRODUCT SAFETY COMMISSION

[Docket No. CPSC-2010-0046]

Agency Information Collection Activities; Proposed Extension and Revision of Collection; Comment Request; Consumer Focus Groups and Other Qualitative Studies

AGENCY: Consumer Product Safety Commission.

ACTION: Notice of information collection; request for comment.

SUMMARY: As required by the Paperwork Reduction Act of 1995, the Consumer Product Safety Commission (CPSC or Commission) requests comments on a proposed extension of approval of a collection of information from persons who may voluntarily participate in consumer focus groups, and revision of that collection. The Office of Management and Budget (OMB) previously approved the collection of information under control number 3041-0136. OMB's most recent extension of approval will expire on January 31, 2024. The Commission will consider all comments received in response to this notice before requesting an extension and revision of this collection of information from OMB.

DATES: Submit comments on the collection of information by January 29, 2024.

ADDRESSES: You may submit comments, identified by Docket No. CPSC-2010-0046, by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/Hand Delivery/Courier/Written Submissions: CPSC encourages you to submit electronic comments by using the Federal eRulemaking Portal. You may, however, submit comments by mail/hand delivery/courier to: Office of the Secretary, Consumer Product Safety Commission, 4330 East West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2010-0046 into the “Search” box, and follow the prompts.

FOR FURTHER INFORMATION CONTACT: Cynthia Gillham, Consumer Product Safety Commission, 4330 East West Highway, Bethesda, MD 20814; (301) 504-7791, or by email to: pra@cpsc.gov.

SUPPLEMENTARY INFORMATION: CPSC seeks to extend the following currently approved collection of information, and to revise it to include additional forms of qualitative studies:

Title: Focus Groups and Other Qualitative Studies.

OMB Number: 3041-0136.

Type of Review: Extension and revision of collection.

Frequency of Response: On occasion.

Affected Public: Consumers.

Estimated Number of Respondents: CPSC estimates that this collection will involve 2,620 participants, including prospective focus group participants who are screened but ultimately not selected for participation.

Estimated Time per Response: We estimate that the average response time for each participant will be 1.1 hours.

Total Estimated Annual Burden: Based on CPSC's estimates that 2,620 participants will each spend an average of 1.1 hours responding to the collection, CPSC estimates that the total annual burden of this collection is 2,882 hours. The annualized cost to respondents for the information collection is $124,675.32 (2,882 hours × $43.26/hr), as estimated from total compensation data available from the U.S. Bureau of Labor Statistics.¹

¹ Total hourly compensation for all civilian workers is estimated by the U.S. Bureau of Labor Statistics to be $43.26: Employer Costs for Employee Compensation, June 2023, Table 1, (https://www.bls.gov/news.release/archives/ecec_09122023.pdf).

General Description of Collection: Section 5(a) of the Consumer Product Safety Act (CPSA), 15 U.S.C. 2054(a), authorizes the Commission to conduct studies and investigations relating to the causes and prevention of deaths, accidents, injuries, illnesses, other health impairments, and economic losses associated with consumer products. Section 5(b) of the CPSA, 15 U.S.C. 2054(b), further provides that the Commission may conduct research, studies, and investigations on the safety of consumer products, or test consumer products and develop product safety test methods and testing devices.

To help identify and evaluate product-related incidents, Commission staff invites and obtains direct feedback from consumers on issues related to product safety, such as recall effectiveness, product use, and perceptions regarding safety issues. The information that the CPSC collects from future focus groups—including usability studies and ethnographic studies for consumer products, which are being added to this revised collection—will help inform the Commission's identification and evaluation of consumer products and product use, by providing insight and information into consumer perceptions and usage patterns. In some cases, one-on-one interviews may be conducted as a more in-depth extension of a focus group, or in place of a traditional focus group or study. This information may also assist the Commission in its efforts to support voluntary standards activities and help CPSC identify emerging consumer safety issues requiring additional research. In addition, based on the information obtained, CPSC may be able to provide safety information to the public that is easier to read and understood by a wider range of consumers.

Request for Comments

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic, or other technological collection techniques, or other forms of information technology.

Alberta E. Mills,
Secretary, Consumer Product Safety Commission.

[FR Doc. 2023-26131 Filed 11-27-23; 8:45 am]

BILLING CODE 6355-01-P